DEPARTMENT OF AGRICULTURE

Forest Service

RIN 0596-AC68

USDA Forest Service Open Space Conservation Strategy

AGENCY: Forest Service, USDA.

ACTION: Notice of request for public input.

SUMMARY: The Forest Service is inviting all interested members of the public to provide comments on the Draft Forest Service Open Space Conservation Strategy, which will help shape the Agency's strategic role in its national effort to conserve open space. The Forest Service is interested in addressing the effects of the loss of open space on private forests; on the National Forests and Grasslands and surrounding landscape; and on forests in cities, suburbs, and towns. The Draft Strategy provides a framework to focus existing and new Forest Service actions for open space conservation. Accordingly, comments on the Draft Strategy should focus broadly on the strategic objectives and actions described in the document. See SUPPLEMENTARY INFORMATION section for more background on the loss of open space and the Strategy.

DATES: Comments must be received, in writing, on or before July 23, 2007.

ADDRESSES: Written comments concerning this notice should be addressed to Claire Harper or Kathryn Conant, Forest Service, Cooperative Forestry, Mail Stop Code 1123, 1400 Independence Avenue, SW., Washington, DC 20250-1123. Comments may also be sent via e-mail to openspace@fs.fed.us; or via facsimile to 202-205-1271. The agency cannot confirm receipt of comments. All comments, including names and addresses when provided, are placed in the record and are available for public inspection. The public may inspect comments during regular business hours at the office of the Cooperative Forestry Staff, 4th Floor SE., Yates Building, 201 14th Street, SW., Washington, DC. Visitors are encouraged to call ahead to 202-205-1389 to facilitate entry into the building.

FOR FURTHER INFORMATION CONTACT: Electronic copies of the Draft Open Space Conservation Strategy document are available at http://www.fs.fed.us/openspace and hardcopies are available by contacting Claire Harper or Kathryn Conant, Forest Service, Cooperative Forestry by telephone at 202-205-1389 or by electronic mail at openspace@fs.fed.us. For general information about the Open Space Conservation Strategy and the loss of open space, visit the Forest Service's Open Space Web site: http://www.fs.fed.us/openspace.

Individuals who use telecommunication devices for the deaf (TDD) may call the Federal Information Relay Service (FIRS) at 1-800-877-8339 between 8 a.m. and 8 p.m., Eastern Standard Time, Monday through Friday.

SUPPLEMENTARY INFORMATION:

I. Background

In 2003, the Forest Service Chief identified the loss of open space as one of four great threats facing our Nation's forests and grasslands. Loss of open space is an issue that affects the sustainability of both the National Forests and Grasslands and private forests. Open space—including public and private land, wilderness and working land—provides a multitude of public benefits and ecosystem services we all need and enjoy. Three interrelated trends of conversion, fragmentation, and parcelization are jeopardizing the long-term health and function of forests, limiting management options, and reducing opportunities for public enjoyment and use. To address the loss of open space threat, the Forest Service has drafted a national strategy that outlines how the agency plans to focus its efforts on the issue. This strategy provides priority actions to conserve open space, with an emphasis on partnerships and collaborative approaches. The strategy builds upon existing Forest Service expertise, resources, and programs, as well as expands the agency's involvement, to help conserve open space across the landscape and maintain healthy, resilient ecosystems.

II. Progress to Date

The Forest Service published a Federal Register notice on November 13, 2006, inviting public input to provide ideas for innovative tools and partnerships in achieving open space conservation. We received approximately 9,500 comments with over 90 percent of the respondents in support of a greater Forest Service emphasis on open space conservation.

The Conservation Fund held three roundtable dialogue listening sessions on the Forest Service role in conserving open space. These sessions were held in Chapel Hill, North Carolina; Washington, DC; and Denver, Colorado in November and December 2006. In addition, we solicited internal comments from Forest Service employees. The Draft Strategy incorporates ideas and input from all the public comments and forums.

Many comments expressed strong support for current State and Private Forestry programs—including the Forest Legacy Program, Forest Stewardship Program, and the Urban & Community Forestry Program. Many respondents look to the Forest Service to lead in convening a range of stakeholders around landscape level planning, researching and promoting markets for ecosystem services, and prioritizing critical lands for conservation. A small minority of comments questioned the Forest Service's role in State and Private Forestry in general and the Strategy in particular.

A complete review of comments can be found at http://www.fs.fed.us/openspace/summary_of_public_input.html

III. Open Space Conservation Strategy

The goal of the Open Space Conservation Strategy is to maintain the environmental, social, and economic benefits of forests and grasslands across the country by: Protecting the most ecologically and socially important lands; Conserving working lands as sustainable forests and grasslands; Expanding and connecting open spaces in cities, suburbs, and towns; and Reducing the ecological impacts and risks of development.

Four priorities will guide Forest Service action into the future:

A. Convene partners to identify and protect priority open space;

B. Promote national policies and markets to help private landowners conserve open space;

C. Provide resources and tools to help communities expand and connect open spaces; and

D. Participate in community growth planning to reduce ecological impacts and wildfire risks.

Within these four priorities, the Draft Strategy focuses on 12 actions for the Agency—all of which will be implemented in partnership and collaboration with others. The actions emphasize our roles as a policy advisor at the national level, a convenor at the regional level, and an information provider and stakeholder at the local level.

IV. Next Steps

After the 30-day comment period, the Forest Service will synthesize all comments received and revise the Strategy accordingly. We expect the final Open Space Conservation Strategy, including a response to comments received, will be announced and published in Fall 2007. The Open Space Conservation Web site will be updated to coincide with this announcement. After publication of the Strategy, the Forest Service will collaborate with stakeholders, states, and the public to implement the Strategy.

V. Public Comment

During the first round of public comment, many respondents requested the opportunity to review and comment on a Draft Strategy. This notice and call for public comment is a direct result of those requests.

The Draft Strategy provides a framework to focus existing and new Forest Service actions for open space conservation. Accordingly, comments on the Draft Strategy should focus broadly on the strategic objectives and actions described in the document. Input regarding the following three questions is most useful:

1. Are there major actions or concepts for conserving open space missing in the Draft Strategy;

2. Has the Draft Strategy outlined strategic priorities that will best leverage Forest Service expertise, resources, and partnerships to conserve open space; and

3. Are the proposed priority actions feasible and complementary to other conservation efforts?

By receiving input from people with diverse interests and perspectives, the Agency hopes to attain an array of viewpoints and ideas regarding the Open Space Conservation Strategy. Feedback from a range of interested individuals will assist the Agency in developing a well-informed, focused, and effective strategy to address the loss of open space threat.

Dated: June 14, 2007.
James Hubbard,
Deputy Chief, State and Private Forestry.

[FR Doc. E7-12149 Filed 6-21-07; 8:45 am]

BILLING CODE 3410-11-P